DEPARTMENT OF COMMERCE

National Oceanic and Atmospheric Administration

RIN 0648-XD625

Fisheries Off West Coast States; Pacific Coast Groundfish Fishery; Application for an Exempted Fishing Permit

AGENCY: National Marine Fisheries Service (NMFS), National Oceanic and Atmospheric Administration (NOAA), Commerce.

ACTION: Notice; receipt of EFP applications; request for comments.

SUMMARY: NMFS announces the receipt of exempted fishing permit (EFP) applications, and is considering issuance of EFPs for vessels participating in the EFP fisheries. The EFPs are necessary to allow activities that are otherwise prohibited by Federal regulations. The EFPs will be effective no earlier than April 1, 2015, and will be for a minimum duration of two years unless there is a need to extend the EFP to collect more information or the need for the EFP no longer exists because appropriate regulations have been implemented. These EFPs can be terminated earlier under terms and conditions of the EFPs and other applicable laws.

DATES: Comments must be received no later than 5 p.m., local time on January 17, 2014.

ADDRESSES: You may submit comments, identified by 0648-XD625, by any one of the following methods:

• Email: GroundfishEMEFP@noaa.gov.

• FAX: 206-526-6736, Attn: Steve Freese.

• Mail: William W. Stelle, Regional Administrator, West Coast Region, NMFS, 7600 Sand Point Way NE., Seattle, WA 98115-0070, Attn: Steve Freese.

FOR FURTHER INFORMATION CONTACT: To view copies of the Electronic Monitoring EFP applications, visit the Pacific Council Web site at www.pcouncil.org and browse the “June 2014 Briefing Book” and the “Trawl Catch Share Program Electronic Monitoring”; or contact Steve Freese (West Coast Region, NMFS), phone 206-526-6113, fax: 206-526-6736.

SUPPLEMENTARY INFORMATION: This action is authorized by the Pacific Coast Groundfish Fishery Management Plan (FMP) and the Magnuson-Stevens Fishery Conservation and Management Act provisions at 50 CFR 600.745, which states that EFPs may be used to authorize fishing activities that would otherwise be prohibited. At the June 2014 Pacific Fishery Management Council (Council) meeting in Garden Grove, California, the Council considered applications for four revised EFPs from: (1) The California Risk Pool; (2) Michele Longo Eder; (3) Peter Leipzig; and (4) Heather Mann and Brent Paine. An opportunity for public testimony was provided during the June 2014 Council meeting. For more details on these EFP applications and to view copies of the applications, see the Pacific Council's Web site at www.pcouncil.org and browse the “June 2014 Briefing Book”. The Council recommended that NMFS consider issuing the following EFPs, and that those EFPs be used to test EM in the fisheries in a limited capacity with some additional permit conditions for possible use in 2015 and beyond.

California Risk Pool EFP

The California Risk Pool (which includes the Fort Bragg Groundfish Association, the Half Moon Bay Groundfish Marketing Association, and the Central California Seafood Marketing Association) submitted an application for an EFP, along with their collaborators: The Environmental Defense Fund (EDF); and The Nature Conservancy. Seven vessels will participate in this EFP: Three from the fixed gear sector and four from the trawl sector. Sarah McTee of the Environmental Defense Fund and Lisa Damrosch of the Half Moon Bay Groundfish Marketing Association are the points of contact for this EFP.

Fixed Gear EFP

The applicants participating in this EFP are trawl-permitted, fixed gear fishermen (Bob Eder, John Corbin and Burton C. Parker, Sr.) using pots or longlines. The primary purpose of the EFP is to test monitoring catch and discard via an EM system without 100 percent observers coverage as currently required by law. Michele Longo Eder is the point of contact for this EFP.

Peter Leipzig EFP

The fishermen that would participate in this EFP are bottom trawl fishermen. The primary purpose of the EFP is to test the use of EM equipment in lieu of an observer and to evaluate components of an overall EM program before implementation of a comprehensive regulatory program. Peter Leipzig of the Fishermen's Marketing Association is the point of contact for this EFP.

Heather Mann and Brent Paine EFP

The vessels participating in this EFP are mid-water trawls that fish in the shoreside and mothership whiting fishery. The primary purpose of the EFP is to determine whether utilizing cameras in lieu of human observers proves both cost effective and operationally effecting while still providing 100 percent monitoring of catch and discards. Heather Mann of the Midwater Trawlers Cooperative and Brent Paine of the United Catcher Boats are the points of contact for this EFP.

Authority: 16 U.S.C. 1801 et seq.

Dated: December 29, 2014.
James P. Burgess,
Acting Director, Office of Sustainable Fisheries, National Marine Fisheries Service.

[FR Doc. 2014-30781 Filed 12-31-14; 8:45 am]

BILLING CODE 3510-22-P